DEPARTMENT OF TRANSPORTATION

Federal Railroad Administration

[Docket Number FRA-2011-0101]

Petition for Waiver of Compliance

In accordance with part 211 of Title 49 of the Code of Federal Regulations (CFR), this document provides the public notice that by a document dated December 2, 2011, Northeast Illinois Regional Commuter Railroad Corporation (Metra) has petitioned the Federal Railroad Administration (FRA) for a waiver of compliance from certain provisions of the Federal railroad safety regulations contained at 49 CFR part 236. FRA assigned the petition Docket Number FRA-2011-0101.

Metra seeks relief from the 2-year periodic testing requirements of the Rules, Standards and Instructions, 49 CFR 236.377, Approach Locking; 236.378, Time Locking; 236.379, Route Locking; 236.380, Indication Locking; and 236.381, Traffic Locking; on vital microprocessor-based systems. Metra proposes to verify and test signal locking systems controlled by micro-processor-based equipment, by use of alternative procedures, every 4 years after initial baseline testing or program change as follows:

• Verifying the cyclic redundancy check/checksum/universal control number of the existing location's specific application logic to the previously tested version.

• Testing the appropriate interconnection to the associated signaling hardware equipment outside the processor (switch indication, track indication, searchlight signal indication, approach locking—if external) to verify the correct and intended inputs to and outputs from the processor are maintained.

• Analyze and compare the results of the 4 year alternative testing with the results of the baseline testing performed at the location then submit the results to FRA.

Metra submitted a list with its petition of each signal location at which Metra intends to implement these alternative procedures.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: (202) 493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by March 12, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on January 24, 2012.
Ron Hynes,
Acting Deputy Associate Administrator for Regulatory and Legislative Operations.

[FR Doc. 2012-1863 Filed 1-26-12; 8:45 am]

BILLING CODE 4910-06-P